DEPARTMENT OF THE TREASURY

Senior Executive Service; Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

• Nani A. Coloretti, Assistant Secretary for Management

• Daniel L. Glaser, Assistant Secretary for Terrorist Financing

• Mark Mazur, Assistant Secretary for Tax Policy

• Richard L. Gregg, Fiscal Assistant Secretary

• Rosa G. Rios, Treasurer of the United States

• Anita K. Blair, Deputy Assistant Secretary for Human Resources and Chief Human Capital Officer

• John J. Manfreda, Administrator, Alcohol and Tobacco Tax and Trade Bureau

• Mary G. Ryan, Deputy Administrator, Alcohol and Tobacco Tax and Trade Bureau

• Jennifer Shasky-Calvery, Director, Financial Crimes Enforcement Network

• Frederick Reynolds, Deputy Director, Financial Crimes Enforcement Network

• David A. Lebryk, Commissioner, Bureau of Fiscal Service

• Wanda J. Rogers, Deputy Commissioner, Financial Services and Operations, Bureau of Fiscal Service

• Cynthia Z. Springer, Deputy Commissioner, Accounting and Shared Services, Bureau of Fiscal Service

• Larry R. Felix, Director, Bureau of Engraving and Printing

• Leonard Olijar, Deputy Director, Bureau of Engraving and Printing

• Richard A. Peterson, Deputy Director, U.S. Mint

DATES: Membership is effective on the date of this notice.

FOR FURTHER INFORMATION CONTACT: Julia J. Markham, Human Resources Specialist (Treasury Department Executive Resources), 1500 Pennsylvania Avenue NW., ATTN: Met Square 6W531, Washington, DC 20220, Telephone: (202) 927-4370.

This notice does not meet the Department's criteria for significant regulations.

Barbara Pabotoy,
Associate Chief Human Capital Officer, Executive and Human Capital Services.

[FR Doc. 2013-29411 Filed 12-10-13; 8:45 am]

BILLING CODE 4810-25-P